DEPARTMENT OF TRANSPORTATION

Federal Highway Administration

Notice of Final Federal Agency Actions on Proposed Highway in California

AGENCY: Federal Highway Administration (FHWA), Department of Transportation.

ACTION: Notice of Limitation on Claims for Judicial Review of Actions by FHWA on behalf of the California Department of Transportation (Caltrans).

SUMMARY: The FHWA, on behalf of Caltrans, is issuing this notice to announce actions taken by Caltrans that are final. The actions relate to a proposed highway project, on United States Highway 101 (US 101) at the existing Old Bayshore Highway and Brokaw Road ramps, on Zanker Road and Bering Drive to the north of US 101, and on North Fourth Street and Skyport Drive to the south of US 101 in San Jose, State of California, in the County of Santa Clara. Those actions grant licenses, permits, and approvals for the project.

DATES: By this notice, the FHWA, on behalf of Caltrans, is advising the public of final agency actions subject to 23 U.S.C.139(l)(1). A claim seeking judicial review of the Federal agency actions on the highway project will be barred unless the claim is filed on or before January 5, 2026. If the Federal law that authorizes judicial review of a claim provides a time period of less than 150 days for filing such claim, then that shorter time period still applies.

FOR FURTHER INFORMATION CONTACT: Caltrans: Brian Gassner, Environmental Branch Chief, 111 Grand Avenue, Oakland, CA 94612, M-F (8 a.m.-4 p.m.), 510-506-0372, brian.gassner@dot.ca.gov.

SUPPLEMENTARY INFORMATION: Effective July 1, 2007, FHWA assigned, and Caltrans assumed, environmental responsibilities for this project pursuant to 23 U.S.C. 327. Notice is hereby given that Caltrans has taken final agency actions subject to 23 U.S.C. 139(l)(1) by issuing licenses, permits, and approvals for the following highway project in the State of California: US 101/Zanker Road/Skyport Drive/Fourth Street Improvement Project, primarily consisting of (1) constructing an overcrossing above US 101 that would connect Zanker Road on the north with North Fourth Street and Skyport Drive on the south; (2) replacing the existing nonstandard ramps on northbound US 101 at Old Bayshore Highway and Brokaw Road with new ramps at Bering Drive that meet higher design standards; and (3) incorporating bicycle and pedestrian facilities into the project's design. The actions by the FHWA, and the laws under which such actions were taken, are described in the Environmental Assessment with Finding of No Significant Impact (EA/FONSI). The EA/FONSI and other project records are available by contacting Caltrans at the address provided above. The EA/FONSI can be viewed and downloaded from the project website at www.vta.org/101zanker. The EA/FONSI can also be viewed at the Joyce Ellington Branch of the San Jose Public Library, 491 E. Empire Street, San Jose, CA 95112 in the project area.

This notice applies to all Federal agency decisions as of the issuance date of this notice and all laws under which such actions were taken, including but not limited to:

1. National Environmental Policy Act of 1969, as amended, 42 U.S.C. 4321 et seq.

2. Clean Air Act Amendments of 1990 (CAAA)

3. Clean Water Act of 1977 and 1987

4. Comprehensive Environmental Response, Compensation, and Liability Act of 1980, as amended (CERCLA)

5. Noise Control Act of 1972

6. Endangered Species Act of 1973

7. Executive Order 13112, Invasive Species (February 3, 1999)

8. Migratory Bird Treaty Act of 1918, as amended

9. Executive Order 11988, Floodplain Management (May 24, 1977)

10. Title VI of the Civil Rights Act of 1964, as amended

11. Uniform Relocation Assistance and Real Property Acquisition Act of 1970, as amended

12. National Historic Preservation Act of 1966, as amended (Section 106)

(Catalog of Federal Domestic Assistance Program Number 20.205, Highway Planning and Construction. The regulations implementing Executive Order 12372 regarding intergovernmental consultation on Federal programs and activities apply to this program.)

Authority: 23 U.S.C. 139(l)(1)

Antonio Johnson,
Director of Planning, Environmental and Right of Way, Federal Highway Administration, California Division.

[FR Doc. 2025-14975 Filed 8-6-25; 8:45 am]

BILLING CODE 4910-RY-P